DEPARTMENT OF TRANSPORTATION

Federal Motor Carrier Safety Administration

49 CFR Parts 385 and 395

[Docket No. FMCSA-2004-19608]

RIN 2126-AB14

Hours of Service of Drivers; Availability of Supplemental Documents

AGENCY: Federal Motor Carrier Safety Administration (FMCSA), DOT.

ACTION: Notice of availability of supplemental documents.

SUMMARY: This notice advises the public that FMCSA is placing in the public docket four additional documents concerning hours of service (HOS) for commercial motor vehicle drivers. FMCSA published an interim final rule (IFR) on this issue on December 17, 2007. The Agency now dockets the supplemental documents.

FOR FURTHER INFORMATION CONTACT: Mr. Thomas Yager, Chief, FMCSA Driver and Carrier Operations. Telephone (202) 366-4325 or E-mail MCPSD@dot.gov. Office hours are from 7:45 a.m. to 4:15 p.m., e.t., Monday through Friday, except Federal holidays.

SUPPLEMENTARY INFORMATION: On August 25, 2005, FMCSA published a final HOS rule (“2005 rule”) (70 FR 49978). On July 24, 2007, the D.C. Circuit Court vacated the 11-hour driving time and 34-hour restart provisions of the 2005 rule (Owner-Operator Independent Drivers Association, Inc. v. Federal Motor Carrier Safety Administration, 494 F.3d 188 (D.C. Cir. 2007)). In response to the D.C. Circuit Court decision, FMCSA published an interim final rule (IFR) on December 17, 2007 (72 FR 71247) that reinstated the two provisions vacated by the Court and sought further comments on those provisions.

For a full background on this rulemaking, please see the preamble to the December 2007 HOS IFR. The docket for this rulemaking (FMCSA-2004-19608) contains all of the background information for this rulemaking, including comments.

This notice calls attention to four additional supplemental documents. FMCSA places the following four electronic files in the docket at FMCSA-2004-19608-3488:

• “HOS Model Description and Guide.doc” (149 kilobytes) A description of the FMCSA HOS Simulation Computer Model and instructions for its use.

• “HOS Simulation Model Sleeper.xls” (34 megabytes (MB)) An FMCSA HOS Simulation Computer Model including sleeper-berth use.

• “HOS Simulation Model No Sleeper.xls” (33 MB) An FMCSA HOS Simulation Computer Model excluding sleeper-berth use.

• “HOS Simulation Model Outputs.xls” (6.4 MB) A subset of outputs from the FMCSA HOS Simulation Computer Model, showing details of calculations as used in the 2007 Regulatory Impact Analysis in Docket Item FMCSA-2004-19608-2529.”

The HOS Computer Simulation Program is a complex FMCSA computer model simulating the movements of a single vehicle (with one or two drivers and in different scenarios) operated in compliance with the FMCSA HOS regulations. This model was used in the 2007 Regulatory Impact Analysis and is Docket Item FMCSA-2004-19608-2529. The HOS requirements may be modified by the simulation program user, allowing the model to analyze various types of HOS options to show the marginal impact on driver productivity, which could be translated into cost effects. The computer model uses the Visual Basic programming language to operate a macro-driven Microsoft Excel(™) spreadsheet.

Issued on: July 23, 2008.
Larry W. Minor,
Associate Administrator for Policy and Program Development.

[FR Doc. E8-17409 Filed 7-29-08; 8:45 am]

BILLING CODE 4910-EX-P